ENVIRONMENTAL PROTECTION AGENCY

[FRL-7028-6]

San Gabriel Superfund Site; Proposed Notice of Administrative Settlement

AGENCY: Environmental Protection Agency (EPA).

ACTION: Notice; request for public comment.

SUMMARY: In accordance with the Comprehensive Environmental Response, Compensation and Liability Act of 1980, as amended by the Superfund Amendments and Reauthorization Act of 1986 (CERCLA), 42 U.S.C. 9600 et seq., notice is hereby given that a proposed Agreement and Covenant Not to Sue (Prospective Purchaser Agreement) associated with the San Gabriel Superfund Site was executed by the United States Environmental Protection Agency (EPA) on August 2, 2001. The proposed Prospective Purchaser Agreement would resolve certain potential claims of the United States under sections 106 and 107(a) of CERCLA, 42 U.S.C. 9606 and 9607(a) against Northrop Grumman Systems Corporation, a Delaware corporation, (the Purchaser). The Purchaser plans to acquire Aerojet-General Corporation's (Aerojet) electronics plant, comprising approximately seventy acres, located at 1100 West Hollyvale Avenue, Azusa, California within the Baldwin Park Operable Unit (BPOU) of the San Gabriel Valley Superfund Site. The Purchaser intends to use the plant for the design and manufacture of space-based sensors and smart weapons. The proposed settlement would provide the following benefits to EPA: (1) The Purchaser will pay EPA $325,000 in cash, to be held in reserve in a special account for future cleanup work at the BPOU, as needed; (2) Aerojet, a potentially responsible party at the BPOU, will pay EPA $9 million as partial reimbursement of its past costs to be held in the same special account for the same purposes; and (3) Aerojet's parent corporation, GenCorp Inc., will provide a written guaranty of $25 million to assure Aerojet's performance of future cleanup activities. Neither Aerojet nor GenCorp are signatories to the Prospective Purchaser Agreement, however they have agreed to the payment and guaranty to effect the sale.

For thirty (30) calendar days following the date of publication of this notice, EPA will receive written comments relating to the proposed settlement. If appropriate, prior to the expiration of this public comment period, EPA may provide an opportunity for a public meeting in the affected area. EPA's response to any comments received will be available for public inspection at the U.S. Environmental Protection Agency, 75 Hawthorne Street, San Francisco, CA 94105.

DATES: Comments must be submitted on or before September 10, 2001.

ADDRESSES: The proposed Prospective Purchaser Agreement and additional background documents relating to the settlement are available for public inspection at the U.S. Environmental Protection Agency, 75 Hawthorne Street, San Francisco, CA 94105. The document can be accessed through the Internet on EPA Region 9's Website located at: http://www.epa.gov/region09/waste/brown/ppa.html.

A copy of the proposed settlement may be obtained from Lewis Maldonado, Senior Counsel (ORC-3), Office of Regional Counsel, U.S. EPA Region IX, 75 Hawthorne Street, San Francisco, CA 94105. Comments should reference “Northrop Grumman PPA, San Gabriel Superfund Site” and “Docket No. 2001-15” and should be addressed to Lewis Maldonado at the above address.

FOR FURTHER INFORMATION CONTACT: Lewis Maldonado, Senior Counsel (ORC-3), Office of Regional Counsel, U.S. EPA Region IX, 75 Hawthorne Street, San Francisco, CA 94105; phone: (415) 744-1342; fax (415)744-1041; e-mail: maldonado.lewis@epa.gov.

Dated: August 2, 2001.
John Kemmerer,
Acting Director, Superfund Division, U.S. EPA, Region IX.

[FR Doc. 01-20137 Filed 8-9-01; 8:45 am]

BILLING CODE 6560-50-P